DEPARTMENT OF COMMERCE

International Trade Administration

[A-823-819]

Seamless Carbon and Alloy Steel Standard, Line, and Pressure Pipe From Ukraine: Final Results of Antidumping Duty Administrative Review; 2021-2022

AGENCY: Enforcement and Compliance, International Trade Administration, Department of Commerce.

SUMMARY: The U.S. Department of Commerce (Commerce) determines that seamless carbon and alloy steel standard, line, and pressure pipe (seamless pipe) from Ukraine was sold at prices below normal value during the period of review (POR) February 10, 2021, through July 31, 2022.

DATES: Applicable March 6, 2024.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On September 7, 2023, Commerce published the Preliminary Results of this administrative review in the Federal Register.¹ Interpipe,² the sole mandatory respondent under review, and the domestic interested party Vallourec Star, L.P. (Vallourec), each submitted comments on the Preliminary Results.³ For a description of the events since the Preliminary Results, as well as a full discussion of the issues raised by parties for these final results of review, see the Issues and Decision Memorandum.⁴ Commerce conducted this review in accordance with section 751(a) of the Tariff Act of 1930, as amended (the Act).

¹ See Seamless Carbon and Alloy Steel Standard, Line, and Pressure Pipe from Ukraine: Preliminary Results of Antidumping Duty Administrative Review; 2021-2022 88 FR 61503 (September 7, 2023) (Preliminary Results), and accompanying Preliminary Decision Memorandum (PDM).

² Interpipe refers to the collapsed entity, Interpipe Ukraine LLC, PJSC Interpipe Niznedneprovsky Tube Rolling Plant, LLC Interpipe Niko Tube, and Interpipe Europe S.A. See Preliminary Results PDM at the sections titled “Summary” and “Affiliation/Single Entity.”

³ See Interpipe's Letter, “Case Brief for Interpipe,” dated October 10, 2023; see also Vallourec's Letter, “Petitioner's Rebuttal Brief,” dated October 17, 2023.

⁴ See Memorandum, “Issues and Decision Memorandum for the Final Results of the 2021-2022 Administrative Review of the Antidumping Duty Order on Seamless Carbon and Alloy Steel Standard, Line, and Pressure Pipe from Ukraine,” dated concurrently with, and hereby adopted by, this notice (Issues and Decision Memorandum).

Scope of the Order ⁵

⁵ See Seamless Carbon and Alloy Steel Standard, Line, and Pressure Pipe from the Republic of Korea, the Russian Federation, and Ukraine: Antidumping Duty Orders, 86 FR 47055 (August 23, 2021) (Order).

The merchandise covered by the scope of the Order is seamless pipe from Ukraine. For a full description of the scope, see the Issues and Decision Memorandum.

Analysis of Comments Received

All issues raised in Interpipe's case brief and Vallourec's rebuttal brief are addressed in the Issues and Decision Memorandum. A list of these issues is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Review

We determine that the following weighted-average dumping margin exists for the period February 10, 2021, through July 31, 2022:

Exporter/producer | Weighted- average dumping margin (percent)
Interpipe Ukraine LLC/LJSC Interpipe Niznedneprovsky Tube Rolling Plant/LLC Interpipe Niko Tube/Interpipe Europe S.A. | 4.99

Disclosure

Because Commerce made no changes to the Preliminary Results, we have not modified our preliminary weighted-average dumping margin calculation. We are adopting the Preliminary Results as the final results of this review. Consequently, there are no calculations to disclose in accordance with 19 CFR 351.224(b) for these final results.

Assessment Rates

Pursuant to section 751(a)(2)(C) of the Act, and 19 CFR 351.212(b)(1), Commerce has determined, and U.S. Customs and Border Protection (CBP) shall assess, antidumping duties on all appropriate entries of subject merchandise in accordance with these final results of review.⁶ We will calculate importer-specific ad valorem assessment rates for the merchandise by dividing the total amount of antidumping duties calculated for all reviewed sales to the importer by the total entered value of the merchandise sold to the importer, in accordance with 19 CFR 351.212(b)(1). Where an importer-specific ad valorem assessment rate is not zero or de minimis, Commerce will instruct CBP to collect the appropriate duties at the time of liquidation. Where an importer-specific ad valorem assessment rate is zero or de minimis, we will instruct CBP to liquidate the appropriate entries without regard to antidumping duties.⁷

⁶ See Antidumping Proceeding: Calculation of the Weighted-Average Dumping Margin and Assessment Rate in Certain Antidumping Duty Proceedings; Final Modification, 77 FR 8101 (February 14, 2012).

⁷ Id., 77 FR 8101, 8102; see also 19 CFR 351.106(c)(2).

In accordance with Commerce's “automatic assessment” practice, we will instruct CBP to liquidate POR entries of subject merchandise which Interpipe produced and sold but did not know was destined for the United States, at the all-others rate (i.e., 23.75 percent) ⁸ if there is no rate for the intermediate company(ies) involved in the transaction.⁹

⁸ See Order, 86 FR 47055.

⁹ See Antidumping and Countervailing Duty Proceedings: Assessment of Antidumping Duties, 68 FR 23954 (May 6, 2003).

Commerce intends to issue assessment instructions to CBP no earlier than 35 days after the date of publication of this notice in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of this notice in the Federal Register, as provided by section 751(a)(2)(C) of the Act: (1) the cash deposit rate for Interpipe will be equal to the weighted-average dumping margin listed in the table above; (2) for companies that were previously reviewed or investigated in this proceeding that are not listed in the table above, the cash deposit rate will continue to be the rate assigned to the company in the most recently completed segment of this proceeding in which the company was examined; (3) if the exporter of the subject merchandise does not have a company-specific rate but the producer of the subject merchandise does, then the cash deposit rate will be the rate assigned to the producer of the subject merchandise in the most recently completed segment of this proceeding in which the producer was examined; and (4) the cash deposit rate for all other producers or exporters will continue to be the all-others rate of 23.75 percent that was established in the less-than-fair-value investigation in this proceeding.¹⁰ These cash deposit requirements, when imposed, shall remain in effect until further notice.

¹⁰ See Order, 84 FR at 47057.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of the return or destruction of APO materials or conversion to judicial protective order, is hereby requested. Failure to comply with the regulations and the terms of an APO is a sanctionable violation.

Notification to Interested Parties

We are issuing and publishing these final results of review in accordance with sections 751(a)(1) and 777(i) of the Act, and 19 CFR 351.221(b)(5).

Dated: February 29, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Discussion of the Issue

Comment: Whether to Grant Interpipe a Constructed Export Price (CEP) Offset

V. Recommendation

[FR Doc. 2024-04707 Filed 3-5-24; 8:45 am]

BILLING CODE 3510-DS-P